DEPARTMENT OF ENERGY

Senior Executive Service; Performance Review Board

AGENCY: Department of Energy.

ACTION: Designation of Performance Review Board Chair.

SUMMARY: This notice provides the Performance Review Board Chair designee for the Department of Energy: James T. Campbell.

DATES: This appointment is effective as of September 30, 2005.

Issued in Washington, DC October 24, 2005.
Claudia A. Cross,
Chief Human Capital Officer/Director, Office of Human Capital Management.

[FR Doc. 05-22119 Filed 11-4-05; 8:45 am]

BILLING CODE 6450-01-P